ENVIRONMENTAL PROTECTION AGENCY

[Docket #EPA-RO4-SFUND-2011-3760, FRL-9444-4]

Landia Chemical Company Site; Lakeland, Polk County, FL; Notice of Settlement

AGENCY: Environmental Protection Agency.

ACTION: Notice of settlement.

SUMMARY: Under Section 122(h)(1) of the Comprehensive Environmental Response, Compensation and Liability Act (CERCLA), the United States Environmental Protection Agency has entered into a settlement for reimbursement of past response costs concerning the Landia Chemical Company Superfund Site located in Lakeland, Polk County, Florida for publication.

DATES: The Agency will consider public comments on the settlement until August 26, 2011. The Agency will consider all comments received and may modify or withdraw its consent to the settlement if comments received disclose facts or considerations which indicate that the settlement is inappropriate, improper, or inadequate.

ADDRESSES: Copies of the settlement are available from Ms. Paula V. Painter. Submit your comments by Site name Landia Chemical Company Superfund Site by one of the following methods:

• http://www.epa.gov/region4/waste/sf/enforce.htm

• E-mail. Painter.Paula@epa.gov

FOR FURTHER INFORMATION CONTACT: Paula V. Painter at 404/562-8887.

Dated: July 6, 2011.
Greg Armstrong,
Acting Chief, Superfund Enforcement & Information Management Branch, Superfund Division.

[FR Doc. 2011-18990 Filed 7-26-11; 8:45 am]

BILLING CODE 6560-50-P